DEPARTMENT OF HEALTH AND HUMAN SERVICES

Health Resources and Services Administration

Grants for Coordinated HIV Services and Research for Women, Infants, Children, and Youth

AGENCY: Health Resources and Services Administration, HHS.

ACTION: Correction.

SUMMARY: In notice document FR Doc. 03-22427, Vol. 68, No. 171, Thursday, September 4, 2003, make the correction:

On page 52658, in the third column under “Limited Competition:” Correct the areas of limited competition to add: LA—Baton Rouge.

Dated: December 17, 2003.
Elizabeth M. Duke,
Administrator.

[FR Doc. 03-31771 Filed 12-23-03; 8:45 am]

BILLING CODE 4165-15-P